FEDERAL ELECTION COMMISSION

Sunshine Act Meetings

AGENCY: Federal Election Commission

DATE AND TIME: Thursday, August 17, 2017 at 10:00 a.m.

PLACE: 999 E Street NW., Washington, DC. (Ninth floor).

STATUS: This meeting will be open to the public.

ITEMS TO BE DISCUSSED:

Audit Division Recommendation Memorandum on the Illinois Republican Party (IRP) (A13-09)

Draft Advisory Opinion 2017-06: Stein and Gottlieb

Management and Administrative Matters

Individuals who plan to attend and require special assistance, such as sign language interpretation or other reasonable accommodations, should contact Dayna C. Brown, Secretary and Clerk, at (202) 694-1040, at least 72 hours prior to the meeting date.

PERSON TO CONTACT FOR INFORMATION: Judith Ingram, Press Officer, Telephone: (202) 694-1220.

Laura E. Sinram,
Acting Deputy Secretary of the Commission.

[FR Doc. 2017-17237 Filed 8-10-17; 4:15 pm]

BILLING CODE 6715-01-P